EXECUTIVE OFFICE OF THE PRESIDENT

Office of National Drug Control Policy

Designation of Three Areas as High Intensity Drug Trafficking Areas

AGENCY: Office of National Drug Control Policy (ONDCP).

ACTION: Notice of three HIDTA designations.

SUMMARY: The Director of the Office of National Drug Control Policy designated 3 additional areas as High Intensity Drug Trafficking Areas (HIDTA).

FOR FURTHER INFORMATION CONTACT: Questions regarding this notice should be directed to Shannon L. Kelly, National HIDTA Director, Office of National Drug Control Policy, Executive Office of the President, Washington, DC 20503; (202) 395-5872.

SUPPLEMENTARY INFORMATION: Pursuant to 21 U.S.C. 1706(b)(1), the Director of the Office of National Drug Control Policy designated 3 additional areas as High Intensity Drug Trafficking Areas (HIDTA). The new areas are Clark, Logan, and Simpson Counties in Kentucky as part of the Appalachia HIDTA.

Dated: June 8, 2020.
Michael J. Passante,
Acting General Counsel.

[FR Doc. 2020-12658 Filed 6-10-20; 8:45 am]

BILLING CODE 3280-F5-P